ENVIRONMENTAL PROTECTION AGENCY

40 CFR Part 52

[EPA-R06-OAR-2012-0096; FRL-9916-31-Region 6]

Approval and Promulgation of Implementation Plans; Texas; Revision to Control Volatile Organic Compound Emissions from Storage Tanks

AGENCY: Environmental Protection Agency (EPA).

ACTION: Proposed rule.

SUMMARY: The Environmental Protection Agency (EPA) is proposing to approve a Texas State Implementation (SIP) revision for control of volatile organic compound (VOC) emissions from storage tanks. The revision implements additional controls in the Dallas-Fort Worth 1997 ozone nonattainment area (DFW area); modifies control requirements in the DFW area, the Houston-Galveston-Brazoria ozone nonattainment area (HGB area), the Beaumont-Port Arthur area and El Paso, Gregg, Nueces and Victoria Counties; and makes non-substantive changes to VOC control provisions that apply in Aransas, Bexar, Calhoun, Matagorda, San Patricio and Travis Counties. In addition, EPA is proposing to find that the SIP revision implements serious area reasonable available control technology (RACT) controls for the VOC storage source category in the DFW area and continues to implement severe area RACT for this source category in the HGB area as required by the Clean Air Act.

DATES: Written comments should be received on or before October 9, 2014.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Carl Young, (214) 665-6645, young.carl@epa.gov.

SUPPLEMENTARY INFORMATION: In the final rules section of this Federal Register, EPA is approving the State's SIP submittal as a direct rule without prior proposal because the Agency views this as noncontroversial submittal and anticipates no adverse comments. A detailed rationale for the approval is set forth in the direct final rule. If no adverse comments are received in response to this action no further activity is contemplated. If EPA receives adverse comments, the direct final rule will be withdrawn and all public comments received will be addressed in a subsequent final rule based on this proposed rule. EPA will not institute a second comment period. Any parties interested in commenting on this action should do so at this time.

For additional information, see the direct final rule which is located in the rules section of this Federal Register.

List of Subjects in 40 CFR Part 52

Environmental protection, Air pollution control, Incorporation by reference, Ozone, Reporting and recordkeeping requirements, Volatile organic compounds.

Authority: 42 U.S.C. 7401 et seq.

Dated: August 22, 2014.
Samuel Coleman,
Acting Regional Administrator, Region 6.

[FR Doc. 2014-21305 Filed 9-8-14; 8:45 am]

BILLING CODE 6560-50-P